DEPARTMENT OF TRANSPORTATION

Federal Aviation Administration

Public Notice For Waiver of Aeronautical Land-use Assurance Lawrence Municipal Airport, North Andover, Massachusetts

AGENCY: Federal Aviation Administration (FAA), DOT.

ACTION: Request for Public Comments. Notice of Intent to Waiver with respect to land.

SUMMARY: The FAA is considering a proposal that a portion of the airport (approximately 2 acres located on Sutton Street along the southwest corner of the airport) is not needed for aeronautical use, as shown on the Airport Layout Plan. There appear to be no impacts to the airport by allowing the airport the use of the land under a 45 year lease, for public self storage units. Approximately 20 percent of the land was acquired by the airport under FAA Project No. 9-19-007-0804 (parcel 9 and a portion of parcel 12).

In accordance with section 47107(h) of title 49, United States Code, the notice is required to be published in the Federal Register 30 days before modifying the land-use assurance that requires the property to be used for an aeronautical purpose.

The purpose of this lease is to make use of surplus land to generate needed revenue for the operations and maintenance of the airport.

DATES: Comments must be received on or before December 11, 2000.

ADDRESSES: Comments on this application may be mailed or delivered to the FAA at the following address: Mr. William Cronan, Special Projects Officer, Federal Aviation Administration, Airports Division, 12 New England Executive Park, Burlington, Massachusetts 01803.

FOR FURTHER INFORMATION CONTACT: William Cronan, Special Projects Officer, 12 New England Executive Park, Burlington, Massachusetts 01803. Telephone number 781-238-7610/Fax number 781-238-7608. Documents reflecting the FAA action may be reviewed at the 16 New England Executive Park, Burlington, Massachusetts 01803 or at the Lawrence Municipal Airport 492 Sutton Street, North Andover, Massachusetts 01845.

SUPPLEMENTARY INFORMATION: This notice announces that the FAA intends to authorize the release of the subject airports property at the Lawrence Municipal Airport, North Andover, Massachusetts. The disposition of proceeds from the leasing of the airport property will be in accordance with FAA's policy and procedures concerning the use of the airport revenue, published in the Federal Register on February 16, 1999.

Issued in Burlington Massachusetts on October 30, 2000.
Vincent A. Scarano,
Manager, Airports Division, New England Region.

[FR Doc. 00-28732 Filed 11-8-00; 8:45 am]

BILLING CODE 4910-13-M